DEPARTMENT OF DEFENSE

Office of the Secretary

[Docket ID: DoD-2024-HA-0082]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Exploring Patients' Experiences of Cross-Cultural Physicians Consultations; OMB Control Number 0720-PCFC.

Needs and Uses: Evidence shows that doctors bring their cultural values to the consultation as well as their professional medical culture. This can affect the way they provide Patient-Centered Care (PCC). PCC was devised to move away from the paternalistic biomedical model of medicine. However, consideration of the physician-as-person has been removed from the current conceptual framework of PCC and patients have not been consulted in its formulation. During investigation of complaint cases for the overseas US population, a trend was noted that seemed to suggest that difference in culture that impacted the patient experience. This was evident in complaint cases where care was provided exactly in line with current clinical guidelines, but the experience of care by the patient was poor.

Patient Reported Experience Measures have international recognition as a way of measuring quality of care but most are developed for a single healthcare system and not tested across different cultures. Evidence regarding cross-cultural experience from the patients' perspective is lacking but evidence from patients in ethno-cultural studies show that there are important cultural factors to consider in medical consultations. We will be exploring US patients experience of care abroad through interviews and focus groups to identify factors that can be used either to support training for physicians to enhance their cultural competency, or measurement of quality.

Interviews

Annual Burden Hours: 30.

Number of Respondents: 30.

Responses per Respondent: 1.

Annual Responses: 30.

Average Burden per Response: 1 hour.

Focus Groups

Annual Burden Hours: 27.

Number of Respondents: 18.

Responses per Respondent: 1.

Annual Responses: 18.

Average Burden per Response: 1.5 hours.

Total

Annual Burden Hours: 57.

Number of Respondents: 48.

Annual Responses: 48.

Dated: July 18, 2024.
Aaron T. Siegel,
Alternate OSD Federal Register Liaison Officer, Department of Defense.

[FR Doc. 2024-16145 Filed 7-22-24; 8:45 am]

BILLING CODE 6001-FR-P